FEDERAL HOUSING FINANCE BOARD

12 CFR Parts 910 and 913

[No. 2003-25]

RIN 3069-AB07

Amendments to the Privacy Act and Freedom of Information Act; Implementation

AGENCY: Federal Housing Finance Board.

ACTION: Final rule.

SUMMARY: The Federal Housing Finance Board (Finance Board) is adopting as a final rule the interim final rule that revised its Privacy Act regulation to reflect an agency reorganization and to make it more “user-friendly” by using plain language and where appropriate, a question-and-answer format. The rule also amended the fee schedule in the Freedom of Information Act (FOIA) regulation, which the Finance Board uses to determine the amount of the fee it charges to duplicate records under both the FOIA and the Privacy Act, to take into account increased salary and operating costs.

EFFECTIVE DATE: The final rule will become effective on November 14, 2003.

FOR FURTHER INFORMATION CONTACT: Janice A. Kaye, Senior Attorney-Advisor, Office of General Counsel, by electronic mail at kayej@fhfb.gov, by telephone at 202/408-2505, or by regular mail at the Federal Housing Finance Board, 1777 F Street, NW., Washington, DC 20006.

SUPPLEMENTARY INFORMATION:

I. Background

In July 2003, the Finance Board published an interim final rule with request for comments that revised its Privacy Act and FOIA regulations. See 68 FR 39810 (July 3, 2003). The revised Privacy Act regulation (12 CFR part 913) is written in a “user-friendly” format using plain language and, where appropriate, a question-and-answer format. It reflects a reassignment of responsibility and authority for the agency's Privacy Act program to the Office of General Counsel. The rule also amended the fee schedule in the FOIA regulation (12 CFR 910.9), which the Finance Board uses to determine the amount of the fee it charges to duplicate records under both the FOIA and the Privacy Act, to take into account increased salary and operating costs. The 60-day public comment period for the interim final rule closed on September 2, 2003. See 68 FR at 39811.

II. Analysis of Public Comments and the Final Rule

The Finance Board received no comments in response to the interim final rule. Thus, for the reasons set forth in detail in the interim final rulemaking, the Finance Board is adopting the interim final rule as a final rule with one technical change to redesignate § 913.7(c)(1)(vii) as § 913.7(c)(1)(vi).

III. Regulatory Flexibility Act

The Finance Board adopted the amendments to parts 910 and 913 in the form of an interim final rule and not as a proposed rule. Therefore, the provisions of the Regulatory Flexibility Act do not apply. See 5 U.S.C. 601(2), 603(a).

IV. Paperwork Reduction Act

The final rule does not contain any collections of information under the Paperwork Reduction Act of 1995. See 44 U.S.C. 3501 et seq. Consequently, the Finance Board has not submitted any information to the Office of Management and Budget for review.

List of Subjects

12 CFR Part 910

Administrative practice and procedure, Archives and records, Confidential business information, Federal home loan banks, Freedom of information.

12 CFR Part 913

Administrative practice and procedure, Archives and records, Freedom of information, Privacy.

For the reasons stated in the preamble, the Finance Board hereby adopts the interim final rule revising 12 CFR parts 910 and 913 that was published at 68 FR 39810 on July 3, 2003, as a final rule with the following change:

PART 913—PRIVACY ACT REGULATION

1. The authority citation for part 913 continues to read as follows:

Authority: 5 U.S.C. 552a.

2. Redesignate § 913.7(c)(1)(vii) as § 913.7(c)(1)(vi).

Dated: October 9, 2003.
By the Board of Directors of the Federal Housing Finance Board.
John T. Korsmo,
Chairman.

[FR Doc. 03-26076 Filed 10-14-03; 8:45 am]

BILLING CODE 6725-01-P